DEPARTMENT OF COMMERCE

International Trade Administration

Howard Hughes Medical Institute, et al.; Notice of Consolidated Decision on Applications for Duty-Free Entry of Electron Microscopes

This is a decision consolidated pursuant to Section 6(c) of the Educational, Scientific, and Cultural Materials Importation Act of 1966 (Pub. L. 89-651, 80 Stat. 897; 15 CFR part 301). Related records can be viewed between 8:30 a.m. and 5 p.m. in Suite 4100W, Franklin Court Building, U.S. Department of Commerce, 1099 14th Street, NW., Washington, DC.

Docket Number: 01-024. Applicant: Howard Hughes Medical Institute, Chevy Chase, MD 20815-6789. Instrument: Electron Microscope, Model JEM-1010. Manufacturer: JEOL Ltd., Japan. Intended Use: See notice at 67 FR 8938, February 27, 2002. Order Date: October 4, 2001.

Docket Number: 01-027. Applicant: University of Cincinnati, Cincinnati, OH 45267-0521. Instrument: Electron Microscope, Model JEM-1230. Manufacturer: JEOL Ltd., Japan. Intended Use: See notice at 67 FR 8938, February 27, 2002. Order Date: June 22, 2001.

Docket Number: 02-002. Applicant: Fox Chase Cancer Center, Philadelphia, PA 19111. Instrument: Electron Microscope, Model Tecnai 12 BioTWIN. Manufacturer: FEI Company, The Netherlands. Intended Use: See notice at 67 FR 8939, February 27, 2002. Order Date: November 30, 2001.

Docket Number: 02-003. Applicant: Albert Einstein College of Medicine of Yeshiva University, Bronx, NY 10461. Instrument: Electron Microscope, Model Tecnai 20. Manufacturer: FEI Company, The Netherlands. Intended Use: See notice at 67 FR 8939, February 27, 2002. Order Date: March 30, 2001.

Comments: None received. Decision: Approved. No instrument of equivalent scientific value to the foreign instrument, for such purposes as these instruments are intended to be used, was being manufactured in the United States at the time the instruments were ordered. Reasons: Each foreign instrument is a conventional transmission electron microscope (CTEM) and is intended for research or scientific educational uses requiring a CTEM. We know of no CTEM, or any other instrument suited to these purposes, which was being manufactured in the United States at the time of order of each instrument.

Gerald A. Zerdy,
Program Manager, Statutory Import Programs Staff.

[FR Doc. 02-7334 Filed 3-26-02; 8:45 am]

BILLING CODE 3510-DS-P